DEPARTMENT OF TRANSPORTATION

Federal Railroad Administration

49 CFR Parts 229, 232, and 238

[Docket No. FRA-2025-0130]

RIN 2130-AD24

Amendments to Brake System Maintenance and Inspection Requirements

AGENCY: Federal Railroad Administration (FRA), Department of Transportation (DOT).

ACTION: Notice of proposed rulemaking (NPRM).

SUMMARY: FRA proposes to amend its mechanical equipment safety standards related to brake inspections for passenger and freight rail equipment. The proposed changes focus on the incorporation of longstanding waivers for locomotive brake system maintenance and inspection requirements. The amendments are consistent with the mandates of the Infrastructure Investment and Jobs Act (IIJA), which require FRA to review and analyze certain longstanding waivers to determine whether incorporating the waivers into FRA's regulations is justified, and the Executive Order for Ensuring Lawful Governance and Implementing the President's “Department of Government Efficiency” Deregulatory Initiative.

DATES: Comments on the proposed rule must be received by September 2, 2025. FRA may consider comments received after that date, but only to the extent practicable.

ADDRESSES:

Comments: Comments related to Docket No. FRA-2025-0130 may be submitted by going to https://www.regulations.gov and following the online instructions for submitting comments.

Instructions: All submissions must include the agency name, docket number (FRA-2025-0130), and Regulatory Identification Number (RIN) for this rulemaking (2130-AD24). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Gary Fairbanks, Supervisory Railroad Safety Specialist, FRA, telephone: (202) 230-9594, email: Gary.Fairbanks@dot.gov; or James Mecone, Attorney Adviser, FRA, telephone: (202) 380-5324, email: James.Mecone@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of title 49, Code of Federal Regulations (CFR). Some of the requirements contained in 49 CFR parts 229, 232, and 238 could be updated to reduce burdens, make technical or conforming changes, or otherwise adjust to advancing technology without any adverse effect on railroad safety. The amendments proposed in this NPRM would codify certain waivers to make permanent the safety benefits of these waivers and eliminate uncertainty about potential extensions. The codification of these waivers would also eliminate the need for railroads to submit waiver petitions (and repeated extensions of those waivers every five years) from the various applicable regulations and FRA's review and approval burden for the waiver petitions and extension requests. Please review the Section-by-Section Analysis below for the relevant information related to each proposed change.

II. Section-by-Section Analysis

PART 229—LOCOMOTIVE SAFETY STANDARDS

Section 229.29 Air Brake System Calibration, Maintenance, and Testing

This section currently provides requirements for periodic calibration, maintenance, and testing of locomotive air brake systems. FRA proposes to extend brake equipment service life and maintenance intervals for periodic cleaning, repairing, and testing of air brake equipment, based on extensive industry and FRA experience implementing test waivers. For industry convenience and clarity, FRA also proposes to improve consistency between passenger locomotive standards located in parts 229 and 238, by reorganizing and restating certain requirements. FRA recognizes that some equipment on passenger railroads must comply with both §§ 229.29 and 238.309, which currently require the same brake maintenance, but are expressed differently. FRA's proposal includes editorial changes to match terms and definitions in both parts 229 and 238.

FRA proposes to remove existing paragraph (b) of this section and combine its requirements with those in § 232.205(c)(1)(iii) for clarity and ease of reference. As discussed in the analysis of § 232.205(c)(1)(iii) below, FRA is proposing to revise the requirements to account for the use of digital air flow method (AFM) indicators. Part 232 already includes the use of digital AFMs as an acceptable option for conducting a brake test.¹ Additionally, FRA proposes to remove existing paragraph (g)(1) requiring that the date of AFM indicator calibration be recorded on form FRA F 6180-49A (the blue card). This requirement is already codified at 49 CFR 232.205(c)(1)(iv).

¹ § 232.205(c)(1)(ii).

With the removal of existing paragraph (b), FRA proposes to redesignate existing paragraph (c) as paragraph (b) and to revise new paragraph (b)(1) to account for the use of electronic air brake (EAB) control valves. This revision effectively codifies a condition of the longstanding waiver in Docket Number FRA-2005-21613.

The longstanding waiver in Docket Number FRA-2005-21613 involves locomotive EAB systems manufactured by New York Air Brake (NYAB) (CCB-1, CCB-2, and CCB-26), and Wabtec (EPIC 3102D2, EPIC 2, and FastBrake). Approximately 17,000 locomotives in the U.S. (over half the U.S. locomotive operating fleet) and approximately 70 percent of the Class I operating fleet are equipped with these types of brakes. These brake systems electronically control the pneumatic brakes on freight locomotives. During the course of this waiver, the test committee overseeing implementation of the relief concluded that the periodic inspection period interval for these brake systems could be extended from 1,472 days to 3,680 days.²

² See https://www.regulations.gov/document/FRA-2005-21613-0129. There are no comments in opposition to the relief in this docket.

FRA proposes to redesignate paragraphs (d) as paragraph (c), and to redesignate paragraph (e) as paragraph (c).

FRA proposes to revise redesignated paragraph (e) to update the intervals and be consistent with the language in § 238.309(b). First, FRA proposes to revise the reference to “26 L or equivalent brake system” in paragraph (e)(1) to a full listing of all 26 type brake systems and to generally identify those brake systems as “26 type brake systems.” Consistent with that change, FRA proposes to revise the reference to 26 L or equivalent brake systems in paragraph (e)(2) to “26 type brake systems.”

FRA proposes to revise redesignated paragraph (e)(3) to remove the references to brake systems subject to longstanding age exploration waivers.

FRA proposes to add new paragraphs (e)(4) through (6) to incorporate the results of age exploration waiver in docket number FRA-2005-21613.

FRA proposes to add new paragraphs (f) and (g) to incorporate specific conditions of the waiver in docket number FRA-2005-21613. These paragraphs would require maintenance of the critical components of the brake systems designed to control contaminants to ensure the effectiveness of those systems throughout the inspection cycle.

Finally, FRA proposes to redesignate paragraph (g) as paragraph (h). Specifically, FRA proposes to redesignate paragraph (g)(2) as paragraph (h)(1), and to redesignate paragraph (g)(3) as paragraph (h)(2) and modify redesignated paragraph (h)(2) with the provision for a unique employee identifier to permit the use of electronic signature of required records. As described above, FRA proposes to remove existing paragraph (g)(1) requiring a record of the AFM indicator calibration date on form FRA F 6180-49A (the blue card) because this requirement is already codified at 49 CFR 232.205(c)(1)(iv).

PART 232—BRAKE SYSTEM SAFETY STANDARDS FOR FREIGHT AND OTHER NON-PASSENGER TRAINS AND EQUIPMENT; END-OF-TRAIN DEVICES

Section 232.205 Class I Brake Test-Initial Terminal Inspection

As noted above, FRA is proposing to combine the requirements of existing paragraph (b) of § 229.29 with those of paragraph (c)(1)(iii) of this section. Specifically, FRA proposes to revise paragraph (c)(1)(iii) to address the use of digital AFM indicators. The existing regulation governs the use and calibration of standalone analog mechanical AFM indicators, but, recognizing the self-diagnostic capabilities of these digital devices, a longstanding FRA test waiver extended the calibration interval to 184 days.³ This has resulted in 98 percent of AFM devices remaining in calibration for each day of the 184-day interval without attention (as compared to 78 percent remaining in calibration prior to the waiver).

³ Docket Number FRA-2016-0086.

PART 238—PASSENGER EQUIPMENT SAFETY STANDARDS

Section 238.307 Periodic Mechanical Inspection of Passenger Cars and Unpowered Vehicles Used in Passenger Trains

FRA proposes to add paragraph (d)(4) to require the execution and passing of a self-test of all EAB systems as part of the 368-day periodic mechanical inspection. This requirement is intended to make paragraph (d)(4) consistent with a similar requirement to perform the self-test on EAB systems at the level one inspection for locomotives at § 229.29(b)(1) and effectively codifies the requirements of the longstanding waiver in Docket No. FRA-2005-21613.

Section 238.309 Periodic Brake Equipment Maintenance

FRA proposes to extend brake equipment service life and maintenance intervals for periodic cleaning, repairing, and testing of air brake equipment, based on extensive industry and FRA experience implementing test waivers. For industry convenience and clarity, FRA also proposes to improve harmonization between passenger locomotive standards located in 49 CFR parts 229 and 238, by reorganizing and restating certain requirements. FRA recognizes that some equipment on passenger railroads must comply with both § 229.29, Air brake system calibration, maintenance, and testing, and § 238.309, which collectively require the same brake maintenance but are expressed differently. Accordingly, FRA proposes reordering the requirements in § 238.309 within each type of equipment category, in chronological order, by length of service period, and also proposes replacing the word “every” with the phrase “at intervals that do not exceed” to match the language in § 229.29. These changes would clarify the period of performance or maintenance governed by § 238.309.

Additionally, in § 238.309, FRA uses the term “fleet” regarding whether equipment is (or is not) equipped with air dryers. FRA considers a “fleet” to be a group of equipment that operates independently of other groups of equipment on a railroad. Typically, this equipment is operated interchangeably and maintained uniformly within its group, but not operated with equipment outside of the group. Testing on the EAB valves specified in this proposed section has shown that recently designed brake systems have sufficient internal filtration and engineering design to withstand operation without air dryers, and be safe and suitable for service during intervals between the proposed inspections. Older air brake equipment may use metallic piston rings, brass-on-brass slide valves, and older filtration schemes that have not proven to withstand non-dryer treated air for extended use. Therefore, FRA proposes to continue its two-tiered approach to the use of air dryers for older air brake systems and require separate operation of fleets if a railroad desires to utilize the longer maintenance period for older equipment fitted with air dryers.

For DMU and MU locomotives, FRA proposes to move present paragraph (b)(2) to new paragraph (b)(3) with modifications. Modified (b)(2) would retain the 1,104-day ⁴ inspection frequency but be assigned to only brake systems not listed in new paragraphs (b)(3) through (b)(7) that are for brake systems that are air dryer equipped.

⁴ Since publication of the revised Railroad Locomotive Safety Standards final rule in 1980, FRA has typically expressed periodic inspections for all railroad equipment in multiples of 92-day quarters, which allows for clarity in calculating service days without concern for variances in the number of days in a calendar month (28 to 31 days) in making calculations.

New paragraph (b)(3) would make DMU and MU locomotive air brake requirements consistent with the freight locomotive requirements found at existing § 229.29(f)(2) (proposed to be redesignated as (e)(2)). As such, all of these different types of locomotives equipped with 26-type brake equipment with air dryers, would be permitted 1,472 days between inspections.

Proposed new paragraphs (b)(4) through (7) would incorporate the findings of AAR's 2005 test waiver for the service life extension of EABs. See Docket No. FRA-2005-21613. While the principal investigations for the service life extension were conducted by freight railroads in cooperation with manufacturers of EABs and interested parties, in 2013 the American Public Transportation Association petitioned and received relief for consistency of passenger locomotives and cab cars equipped with EABs with the requirements of proposed § 229.29(e)(4)-(6), therefore “piggybacking” on Docket no. FRA-2005-21613. See FRA-2007-28306-0011. FRA is proposing to move current paragraph (b)(3) to paragraph (b)(4) and modify it by the addition of EPIC 1 (formerly EPIC 3102) to the list of brake systems permitted 1,840 days between cleaning, repair, and test, to be consistent with the requirement of § 229.29. As explained regarding EAB valves, FRA is also proposing deleting the requirement for air dryers for the brake systems listed in paragraph (b)(4). The reference to KBC's “KBCT1” is being removed from this paragraph and placed in paragraph (b)(7) as “CT-1.”

In 2004, Long Island Rail Road (LIRR) and Metro-North Commuter Railroad (MNCR) petitioned and were granted a waiver of compliance from FRA for age exploration of the KBC CT-1 air brake for their fleets of M-7 MU locomotives to extend time intervals between brake maintenance cycles beyond the five years (1,840 days) required in § 238.309 (Docket No. FRA-2004-17099). After completing 12 years of thorough testing and component evaluation, the waiver test committee recommended a 10-year (3,680-day) interval for cleaning, repair, and test. The LIRR (836 cars) and the MNCR (336 cars) M-7 fleets entered revenue service between 2002 and 2007.

In 2013, FRA granted MNCR's petition to add its M-8 fleet (405 units) identified as a KBC CT-1a air brake system to Docket No. FRA-2004-17099. FRA concurred that the similar components of the KBC CT-1a system are considered to have the same life expectancy as the KBC CT-1 system. Based on its analysis of the LIRR/MNCR data and the overall fleet brake system reliability and safety performance, the waiver test committee recommended approval for a 10-year (3,680-day) clean, oil, test, and stencil (COT&S) interval for the KBC CT-1 family of brake systems. FRA proposes to incorporate the results of this test waiver in proposed paragraph (b)(7).

FRA also proposes to codify the remaining EABs that were investigated under Docket No. FRA-2005-21613 to make this section consistent with proposed revisions to § 229.29. FRA proposes to add paragraph (b)(5) to permit 2,944-day intervals between brake maintenance for DMU or MU locomotives equipped with EPIC 3102(D2) or EPIC 2 brake systems. FRA proposes to add paragraph (b)(6) to permit 3,128-day intervals between brake maintenance for DMU or MU locomotives equipped with CCB-1 brake systems. FRA proposes to add paragraph (b)(7) to permit 3,680-day intervals between brake maintenance for DMU or MU locomotives equipped with CCB-2, CCB-26, or FastBrake electronic air brake systems, as specified in Docket No. FRA-2005-21613, and to permit the of the CT-1 brake system as specified in Docket No. FRA-2004-17099.

For passenger coaches and other unpowered passenger vehicles, FRA proposes to exchange paragraphs (d)(1) and (3) to arrange the paragraphs in chronological order, and to change the brake system reference in new paragraph (d)(1) to “brake system not specifically identified” to provide consistency with § 229.29 and to reflect that 1,104 days is the default interval for brake systems not otherwise noted in paragraph (d). The interval in paragraph (d)(2) is being changed from 1,476 days to 1,472 days to correct a long-standing typographical error and conform with FRA's method for calculating periodic inspection dates.

Proposed paragraph (d)(3) would address AB-type brake systems used on passenger equipment (currently in paragraph (d)(1)), and the interval between required brake maintenance would remain 2,208 days.

For cab cars, FRA proposes to reorder paragraph (e) to arrange the requirements in chronological order, and to change the brake system reference to “brake system not specifically identified” in new paragraph (e)(1) (currently (e)(4)), to provide consistency with § 229.29. In paragraph (e)(2), FRA proposes the same conforming change from “1,476 days” to “1,472 days,” as discussed above, and current paragraph (e)(3) would be removed. Splitting of the intervals between 26-C “under floor” equipment and 26-L control cab equipment, as in current paragraph (e)(2) and (3), would no longer be required due to the proposed parity of treatment of all 26-type brake valves in part 238 and part 229. Proposed (e)(3), which is current (e)(1), would specify the 1,840-day brake interval equipment requirements. Proposed new paragraphs (e)(4) through (6) would codify the provisions of EAB test waivers under Docket Nos. FRA-2005-21613 and FRA-2007-28306 for the brake maintenance intervals.

Similar to proposed paragraphs (f) and (g) for § 229.29 described above, proposed paragraphs (f) and (g) would provide for the maintenance of automatic drain valves and air dryers, and air compressors (with an emphasis on elimination of oil contamination). These paragraphs are identical to two general conditions of the test waiver at Docket No. FRA-2005-21613,⁵ and are considered essential elements to the success of the test waiver. These paragraphs require maintenance of the critical components of the brake systems designed to control contaminates to ensure the effectiveness of those systems throughout the inspection cycle.

⁵ See FRA-2005-21613-0088, “U.S. Dot/FRA—Decision,” conditions no. 6-7.

FRA proposes to redesignate paragraph (f) as new paragraph (h) and modify new paragraph (h)(1) with the provision for a unique employee identifier to permit the use of electronic signature of required records.

III. Regulatory Impact and Notices

A. Executive Orders (E.O.) 12866 (Regulatory Planning and Review) and DOT Regulatory Policies and Procedures

FRA has considered the impact of this NPRM under E.O. 12866, Regulatory Planning and Review (58 FR 51735, Oct. 4, 1993), and DOT Order 2100.6B, Policies and Procedures for Rulemaking (Mar. 10, 2025). The Office of Information and Regulatory Affairs within the Office of Management and Budget (OMB) determined that this NPRM is not a significant regulatory action under section 3(f) of E.O. 12866. FRA is proposing to incorporate longstanding waivers for locomotive and passenger equipment brake system maintenance and inspection requirements.

FRA expects that this proposed rule would result in cost savings to the industry as it would codify mostly longstanding waivers and save railroads the need to submit waiver petitions (and repeated extensions of those waivers every five years) to FRA for continued relief of various applicable regulations and the Federal Government's review and approval burden for the waiver petitions and extension requests. In instances where a current waiver may not be longstanding, FRA estimates the cost savings would be greater since a railroad would now be granted additional time in between regulatory maintenance and inspection intervals. FRA also expects this proposed rule would provide clarity to railroads regarding regulatory maintenance and inspection requirements.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ⁶ Implementation guidance for E.O. 14192 issued by OMB (Memorandum M-25-20, Mar. 26, 2025) defines two different types of E.O. 14192 actions: an E.O. 14192 deregulatory action, and an E.O. 14192 regulatory action.⁷

⁶ Executive Office of the President. Executive Order 14192 of January 31, 2025. Unleashing Prosperity Through Deregulation. 90 FR 9065-9067. Feb. 6, 2025.

⁷ Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero, and therefore it would be considered an E.O. 14192 deregulatory action upon issuance of a final rule. While FRA is confident that each amendment proposed in this NPRM has a cost that is negligible or “less than zero” consistent with E.O. 14192, FRA requests comment on the extent of the cost savings for the changes proposed in this NPRM.

C. Regulatory Flexibility Act and E.O. 13272

The Regulatory Flexibility Act (5 U.S.C. 601 et seq.), as amended by the Small Business Regulatory Enforcement Fairness Act of 1996,⁸ requires Federal agencies to consider the effects of the regulatory action on small business and other small entities and to minimize any significant economic impact. Accordingly, DOT policy requires an analysis of the impact of all regulations on small entities, and mandates that agencies strive to lessen any adverse effects on these businesses. The term small entities comprises small businesses and not-for-profit organizations that are independently owned and operated and are not dominant in their fields, and governmental jurisdictions with populations of less than 50,000 (5 U.S.C. 601(6)).

⁸ Public Law 104-121, 110 Stat. 857 (Mar. 29, 1996).

No regulatory flexibility analysis is required, however, if the head of an Agency or an appropriate designee certifies that the rule will not have a significant economic impact on a substantial number of small entities. This proposed rule would not preclude small entities from continuing existing practices that comply with parts 229, 232, or 238; it merely offers flexibilities that would result in cost savings, if a small entity or other regulated entity chooses to utilize those flexibilities. By extending this regulatory relief, many regulated entities, including small entities, would experience a cost savings. Consequently, FRA certifies that the proposed action would not have a significant economic impact on a substantial number of small entities.

In accordance with section 213(a) of the Small Business Regulatory Enforcement Fairness Act of 1996 (Pub. L. 104-121, 110 Stat. 857), FRA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

D. Paperwork Reduction Act

This proposed rule offers regulatory flexibilities, and it contains no new information collection requirements under the Paperwork Reduction Act of 1995, 44 U.S.C. 3501 et seq. With this NPRM, FRA will be using the OMB control numbers: 2130-0544, Passenger Equipment Safety Standards; 2130-0008, Brake System Safety Standards for Freight and Other Non-Passenger Trains and Equipment; and 2130-0004, Railroad Locomotive Safety Standards and Event Recorders.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

Pursuant to Section 106 of the National Historic Preservation Act and its implementing regulations, FRA has determined this undertaking has no potential to affect historic properties. FRA has also determined that this rulemaking does not approve a project resulting in a use of a resource protected by Section 4(f).

F. Federalism Implications

This proposed rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This proposed rule would not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211 requires Federal agencies to prepare a Statement of Energy Effects for any “significant energy action.” ⁹ FRA has evaluated this proposed rule in accordance with E.O. 13211 and determined that this proposed rule is not a “significant energy action” within the meaning of E.O. 13211.

⁹ 66 FR 28355 (May 22, 2001).

I. E.O. 13175 (Tribal Consultation)

FRA has evaluated this proposed rule in accordance with the principles and criteria contained in E.O. 13175, Consultation and Coordination with Indian Tribal Governments, dated November 6, 2000. The proposed rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 ¹⁰ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

¹⁰ 19 U.S.C. ch. 13.

K. Privacy Act Statement

In accordance with 5 U.S.C. 553(c), DOT solicits comments from the public to better inform its rulemaking process. DOT posts these comments, without edit, to http://www.regulations.gov, as described in the system of records notice, DOT/ALL-14 FDMS, accessible through www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

L. Rulemaking Summary

As required by 5 U.S.C. 553(b)(4), a summary of this rule can be found at regulations.gov, Docket No. FRA-2025-0130, in the SUMMARY section of this proposed rule.

List of Subjects in 49 CFR Part 229

Locomotives, Railroad safety.

List of Subjects in 49 CFR Part 232

Power brakes, Railroad safety.

List of Subjects in 49 CFR Part 238

Passenger equipment, Railroad safety, Reporting and recordkeeping requirements.

The Proposed Rule

For the reasons discussed in the preamble, FRA proposes to amend parts 229, 232, and 238 of chapter II, subtitle B of title 49, Code of Federal Regulations as follows:

PART 229—RAILROAD LOCOMOTIVE SAFETY STANDARDS

1. The authority citation for part 229 continues to read as follows:

Authority: 49 U.S.C. 20103, 20107, 20133, 20137-38, 20143, 20168, 20701-03, 21301-02, 21304; 28 U.S.C. 2461 note; and 49 CFR 1.89.

2. Amend § 229.29 by revising paragraph (a), removing paragraph (b), redesignating paragraphs (c) through (f) as paragraphs (b) through (e) and revising newly redesignated paragraphs (b) through (e), redesignating paragraph (g) as paragraph (h) and revising newly redesignated paragraph (h), and adding new paragraphs (f) and (g) to read as follows:

§ 229.29 Air brake system calibration, maintenance, and testing.

(a) A locomotive's air brake system shall receive the calibration, maintenance, and testing as prescribed in this section. The level of maintenance and testing and the intervals for receiving such maintenance and testing of locomotives with various types of air brake systems shall be conducted in accordance with paragraphs (c) through (e) of this section. Records of the maintenance and testing required in this section shall be maintained in accordance with paragraph (h) of this section.

(b) Except for DMU or MU locomotives covered under § 238.309 of this chapter, the extent of air brake system maintenance and testing that is required on a locomotive shall be in accordance with the following levels:

(1) Level one: Locomotives shall have the filtering devices or dirt collectors located in the main reservoir supply line to the air brake system cleaned, repaired, or replaced. Locomotives equipped with electronic air brake (EAB) control valves, must execute and pass a self-test of the operational health of the brake system.

(2) Level two: Locomotives shall have the following components cleaned, repaired, and tested: brake cylinder relay valve portions; main reservoir safety valves; brake pipe vent valve portions; and, feed and reducing valve portions in the air brake system (including related dirt collectors and filters).

(3) Level three: Locomotives shall have the components identified in this paragraph removed from the locomotive and disassembled, cleaned and lubricated (if necessary), and tested. In addition, all parts of such components that can deteriorate within the inspection interval as defined in paragraphs (c) through (e) of this section shall be replaced and tested. The components include: all pneumatic components of the locomotive equipment's brake system that contain moving parts and are sealed against air leaks; all valves and valve portions; electric-pneumatic master controllers in the air brake system; and all air brake related filters and dirt collectors.

(c) Except for MU locomotives covered under § 238.309 of this chapter, all locomotives shall receive level one air brake maintenance and testing as described in this section at intervals that do not exceed 368 days.

(d) Locomotives equipped with an air brake system not specifically identified in paragraphs (e)(1) through (6) of this section shall receive level two air brake maintenance and testing as described in this section at intervals that do not exceed 368 days and level three air brake maintenance and testing at intervals that do not exceed 736 days.

(e) Level two and level three air brake maintenance and testing shall be performed on each locomotive identified in this paragraph in accordance with the following:

(1) At intervals that do not exceed 1,104 days for a locomotive equipped with PS-68, 26-C, 26-L, PS-90, CS-1, RT-2, RT-5A, GRB-1, CS-2, or 26-R brake systems (26 type brake systems). (This listing of brake system types is intended to subsume all brake systems using 26 type, 6N, MC30, ABD, or ABDW control valves and PS68, PS-90, 26B-1, 26C, 26CE, 26-B1, 30CDW, or 30ECDW engineer's brake valves.);

(2) At intervals that do not exceed 1,472 days for locomotives equipped with an air dryer and a 26 type brake system and for locomotives not equipped with an air compressor and that are semi-permanently coupled and dedicated to locomotives with an air dryer;

(3) At intervals that do not exceed 1,840 days for locomotives equipped with KB-HL1, KB-HS1, or EPIC 1 (formerly EPIC 3102) brake systems;

(4) At intervals that do not exceed 2,944 days for locomotives equipped with EPIC 3102(D2) or EPIC 2 brake systems;

(5) At intervals that do not exceed 3,128 days for locomotives equipped with CCB-1 brake systems; or

(6) At intervals that do not exceed 3,680 days for locomotives equipped with CT-1, CCB-2, CCB-26, or FastBrake brake systems.

(f) All systems for the discharge or removal of moisture, such as automatic drain valves and air dryers, must be maintained to function as intended.

(g) The air compressor (if equipped) must be maintained to function as intended with emphasis on detection and elimination of oil contamination of the main reservoir air.

(h) Records of the air brake system maintenance and testing required by this section shall be generated and maintained in accordance with the following:

(1) The date and place of the cleaning, repairing and testing required by this section shall be recorded on Form FRA F 6180-49A, and the work shall be certified. A record of the parts of the air brake system that are cleaned, repaired, and tested shall be kept in the railroad's files or in the cab of the locomotive.

(2) At its option, a railroad may fragment the work required by this section. In that event, a separate record shall be maintained under a transparent cover in the cab. The air record shall include: the locomotive number; a list of the air brake components; and the date and place of the inspection and testing of each component. The signature or unique employee identifier of the person performing the work and the signature or unique employee identifier of that person's supervisor shall be included for each component. A duplicate record shall be maintained in the railroad's files.

PART 232—BRAKE SYSTEM SAFETY STANDARDS FOR FREIGHT AND OTHER NON-PASSENGER TRAINS AND EQUIPMENT; END-OF-TRAIN DEVICES

2. The Authority citation for part 232 continues to read as follows:

Authority: 49 U.S.C. 201012-20103, 20107, 20133, 20141, 20301-20303, 20306, 21301-20302, 21304; 28 U.S.C. 2461, note; and 49 CFR 1.89.

4. Amend 232.5 by adding, in alphabetical order, the following definition:

§ 232.5 Definitions.

* * * * *

Electronic air brake (EAB) means a brake system controlled by a computer which provides the means for control of the locomotive brakes or train brakes or both.

* * * * *

5. Revise § 232.205(c)(1)(iii) to read as follows:

§ 232.205 Class 1 brake test-initial terminal inspection.

* * * * *

(c) * * *

(1) * * *

(iii) An analog AFM indicator must be calibrated for accuracy at periodic intervals not to exceed 92 days. A digital AFM integrated into an EAB system must be calibrated for accuracy at periodic intervals not to exceed 184 days. The AFM indicator and all test orifices must be calibrated at temperatures of not less than 20 °F. AFM indicators must be accurate to within ±3 standard cubic feet per minute (CFM) at 60 CFM air flow.

* * * * *

PART 238—PASSENGER EQUIPMENT SAFETY STANDARDS

6. The authority citation for part 238 continues to read as follows:

Authority: 49 U.S.C. 20103, 20107, 20133, 20141, 20302-20303, 20306, 20701-20702, 21301-21302, 21304; 28 U.S.C. 2461 note; and 49 CFR 1.89.

7. Amend 238.5 by adding, in alphabetical order, the following definition:

§ 238.5 Definitions.

* * * * *

Electronic air brake (EAB) means a brake system controlled by a computer which provides the means for control of the locomotive brakes or train brakes or both.

* * * * *

8. Amend § 238.307 by revising paragraph (d) to read as follows:

§ 238.307 Periodic mechanical inspection of passenger cars and unpowered vehicles used in passenger trains.

* * * * *

(d) * * *

(4) For passenger equipment equipped with an EAB system, a self-test of the operational health of the brake system must be performed and successfully passed as part of the periodic mechanical inspection.

* * * * *

9. Amend § 238.309 by revising paragraphs (b), (d), and (e), redesignating paragraph (f) as paragraph (h) and revising newly designated paragraph (h), and adding new paragraphs (f) and (g) to read as follows:

§ 238.309 Periodic brake equipment maintenance.

* * * * *

* * * * *

(b) DMU and MU locomotives. The brake equipment and brake cylinders of each DMU or MU locomotive shall be cleaned, repaired, and tested, and the filtering devices or dirt collectors located in the main reservoir supply line to the air brake system cleaned, repaired, or replaced in accordance with the following schedule:

(1) At intervals that do not exceed 736 days if the DMU or MU locomotive is part of a fleet that is not 100 percent equipped with air dryers;

(2) At intervals that do not exceed 1,104 days if the DMU or MU locomotive is part of a fleet that is 100 percent equipped with air dryers and is equipped with a brake system not listed in paragraphs (b)(3) through (7) of this section;

(3) At intervals that do not exceed 1,472 days if the DMU or MU locomotive is part of a fleet that is 100 percent equipped with air dryers and is equipped with PS-68, 26-C, 26-L, PS-90, CS-1, RT-2, RT-5A, GRB-1, CS-2, or 26-R brake systems (26 Type brake system). (This listing of brake system types is intended to subsume all brake systems using 26 Type, 6N, MC30, ABD, or ABDW control valves and PS68, PS-90, 26B-1, 26C, 26CE, 26-B1, 30CDW, or 30ECDW engineer's brake valves.);

(4) At intervals that do not exceed 1,840 days if the DMU or MU locomotive is equipped with KB-HL1, KB-HS1, or EPIC 1 (formerly EPIC 3102) brake systems;

(5) At intervals that do not exceed 2,944 days if the DMU or MU locomotive is equipped with EPIC 3102(D2) or EPIC 2 brake systems;

(6) At intervals that do not exceed 3,128 days if the DMU or MU locomotive is equipped with CCB-1 brake systems; or

(7) At intervals that do not exceed 3,680 days if the DMU or MU locomotive is equipped with CT-1, CCB-2, CCB-26, or FastBrake brake systems.

* * * * *

(d) Passenger coaches and other unpowered vehicles. The brake equipment on each passenger coach and each unpowered vehicle used in a passenger train shall be cleaned, repaired, and tested in accordance with following schedule:

(1) At intervals that do not exceed 1,104 days for a coach or vehicle equipped with a brake system not specifically identified in paragraphs (d)(2) through (4) of this section;

(2) At intervals that do not exceed 1,472 days for a coach or vehicle equipped with a 26 Type listed in paragraph (b)(3) of this section or equivalent brake system;

(3) At intervals that do not exceed 2,208 days for a coach or vehicle equipped with an AB-type brake system;

(4) At intervals that do not exceed 2,944 days for a coach or vehicle equipped with EE-26 (26-C emulation brake system) or any locomotive electronic air brake (EAB) control valve listed in (b)(5) through (7) of this section when used for brake cylinder control only; or

(5) At intervals that do not exceed 3,680 days for a coach or vehicle equipped with EE-26 (26-C emulation brake system), or any locomotive electronic air brake (EAB) control valve listed in (b)(5) through (7) of this section when used for brake cylinder control only, and operated in a fleet where continuous brake operational health information is displayed to the train operator.

(e) Cab cars. The brake equipment of each cab car shall be cleaned, repaired, and tested in accordance with the following schedule:

(1) At intervals that do not exceed 736 days for all types of a cab car brake system not specifically identified in paragraphs (e)(2) through (6) of this section;

(2) At intervals that do not exceed 1,472 days for a cab car brake system equipped with 26 Type brake valves listed in paragraph (b)(3) of this section;

(3) At intervals that do not exceed 1,840 days for a cab car brake system equipped with KB-HL1, KB-HS1, KB-CT1, or EPIC 1 (formerly EPIC 3102);

(4) At intervals that do not exceed 2,944 days for a cab car brake system equipped with EPIC 3102(D2) or EPIC 2 brake systems;

(5) At intervals that do not exceed 3,128 days for a cab car brake system equipped with CCB-1 brake systems; or

(6) At intervals that do not exceed 3,680 days for a cab car brake system equipped with CT-1, CCB-2, CCB-26, or FastBrake brake systems.

(f) Moisture discharge or removal system maintenance. Automatic drain valve and air dryer maintenance. All systems for the discharge or removal of moisture, such as automatic drain valves and air dryers, must be maintained to function as intended.

(g) Air compressor maintenance. The air compressor (if equipped) must be maintained to function as intended with emphasis on detection and elimination of oil contamination of the main reservoir air.

(h) Records of periodic maintenance.

(1) The date and place of the cleaning, repairing, and testing required by this section shall be recorded on Form FRA 6180-49A or a similar form developed by the railroad containing the same information, and the person performing the work and that person's supervisor shall sign or mark the form with a unique employee identifier, if possible. Alternatively, the railroad may stencil the vehicle with the date and place of the cleaning, repairing, and testing and maintain an electronic record of the person performing the work and that person's supervisor.

(2) A record of the parts of the air brake system that are cleaned, repaired, and tested shall be kept in the railroad's files, the cab of the locomotive, or a designated location in the passenger car until the next such periodic test is performed.

Issued in Washington, DC.
Kyle D. Fields,
Chief Counsel.

[FR Doc. 2025-12168 Filed 6-27-25; 4:15 pm]

BILLING CODE 4910-06-P